DEPARTMENT OF HEALTH AND HUMAN SERVICES

National Institutes of Health

Eunice Kennedy Shriver National Institute of Child Health & Human Development; Amended Notice of Meeting

Notice is hereby given of a change in the meeting of the Pediatrics Subcommittee, October 12, 2017, 08:30 a.m. to October 12, 2017, 05:00 p.m. Residence Inn Bethesda, 7335 Wisconsin Avenue, Bethesda, MD., 20814 which was published in the Federal Register on August 14, 2017, Pg. 82 FRN 239400 Vol. 155.

The meeting has changed from October 12, 2017, 8:30 a.m. to 5:00 p.m. to October 13, 2017, 8:30 a.m. to 5:00 p.m. The meeting is closed to the public.

Dated: August 24, 2017.
Anna Snouffer,
Deputy Director, Office of Federal Advisory Committee Policy.

[FR Doc. 2017-18338 Filed 8-29-17; 8:45 am]

BILLING CODE 4140-01-P